DEPARTMENT OF TRANSPORTATION

Surface Transportation Board

[STB Finance Docket No. 34081]

Effingham Railroad Company—Operation Exemption—Line Owned by Total Quality Warehouse

Effingham Railroad Company (ERRC), a Class III rail carrier, has filed a verified notice of exemption under 49 CFR 1150.31 to operate over approximately 3,661 feet of railroad line that will be constructed for and acquired by Total Quality Warehouse (TQW), located in an industrial park in Effingham, IL¹ to provide a more efficient interchange with the Canadian National Railroad on the border of an existing industrial park.

¹ ERRC states that the additional track to be operated will be constructed from ERRC's engineering designation Sta. 95+84.61 to Sta. 152+65.84.

Construction of the track was expected to begin on August 13, 2001, 7 days after the exemption was filed, and ERRC will begin operations as soon as construction is completed.²

² ERRC simultaneously filed a petition to dismiss the verified notice of exemption. The Board will address the jurisdictional issue raised by the petition to dismiss in a subsequent decision.

If the verified notice contains false or misleading information, the exemption is void ab initio. Petitions to reopen proceeding to revoke the exemption under 49 U.S.C. 10502(d) may be filed at any time. The filing of a petition to revoke will not automatically stay the transaction.

An original and 10 copies of all pleadings, referring to STB Finance Docket No. 34081, must be filed with the Surface Transportation Board, Office of the Secretary, Case Control Unit, 1925 K Street, NW, Washington, DC 20423-0001. In addition, one copy of each pleading must be served on John M. Robinson, 9616 Old Spring Road, Kensington, MD 20895.

Board decisions and notices are available on our website at www.stb.dot.gov.

Decided: August 28, 2001.
By the Board, Joseph H. Dettmar, Acting Director, Office of Proceedings.
Vernon A. Williams,
Secretary.

[FR Doc. 01-22116 Filed 8-31-01; 8:45 am]

BILLING CODE 4915-00-P